DEPARTMENT OF ENERGY

Federal Energy Regulatory Commission

[Docket No. RP85-60-013]

Overthrust Pipeline Company; Notice of Report of Refunds

February 2, 2000.

Take notice that on January 27, 2000, Overthrust Pipeline Company tendered for filing a refund report. Overthrust states that the report documents refunds of amounts pertaining to and detailing the Deferred Income Tax (DIT) refund payments for the year 1999.

Overthrust states that it is filing the refund report pursuant to a Commission order dated May 21, 1991, “Order Approving Settlement with Modifications” in Docket Nos. RP85-60-000 and -002. Overthrust explains the Article V of the settlement, as modified, requires Overthrust to file an annual report 60 days after making the actual DIT refunds.

Any person desiring to protest said filing should file a protest with the Federal Energy Regulatory Commission, 888 First Street, NE, Washington, DC 20426, in accordance with section 385.211 of the Commission's Rules and Regulations. All such protests must be filed on or before February 9, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-2785 Filed 2-7-00; 8:45 am]

BILLING CODE 6717-01-M